FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 27, 2018.

A. Federal Reserve Bank of Atlanta (Kathryn Haney, Assistant Vice President) 1000 Peachtree Street NE, Atlanta, Georgia 30309. Comments can also be sent electronically to Applications.Comments@atl.frb.org:

1. Amy Beth Windle Oakley, Cookeville, Tennessee, and Mark Edward Copeland, Ooltewah, Tennessee; to become members of the Windle/Copeland Family Control Group and thereby retain shares of Overton Financial Services, Inc., and its subsidiary, Union Bank and Trust Company, both of Livingston, Tennessee.

Board of Governors of the Federal Reserve System, December 7, 2018.
Yao-Chin Chao,
Assistant Secretary of the Board.

[FR Doc. 2018-26926 Filed 12-11-18; 8:45 am]

BILLING CODE P